COMMODITY FUTURES TRADING COMMISSION

Agency Information Collection Activities: Notice of Intent To Renew Collection 3038-0061, Daily Trade and Supporting Data Reports

AGENCY: Commodity Futures Trading Commission.

ACTION: Notice.

SUMMARY: The Commodity Futures Trading Commission (“CFTC” or “Commission”) is announcing an opportunity for public comment on the proposed collection of certain information by the agency. Under the Paperwork Reduction Act (“PRA”), Federal agencies are required to publish notice in the Federal Register concerning each proposed collection of information, including each proposed extension of an existing collection of information, and to allow 60 days for public comment. This notice solicits comments on the daily trade and supporting data reports that are submitted to CFTC pursuant to Commission Rule 16.02. This part imposes reporting requirements on Reporting Markets, including Designated Contract Markets.

DATES: Comments must be submitted on or before February 1, 2016.

ADDRESSES: You may submit comments, identified by “Renewal of Collection Pertaining to Regulation 16.02 Daily Trade and Supporting Data Reports 3038-0061”, by any of the following methods:

• Agency Web site: http://comments.cftc.gov/. Follow the instructions for submitting comments through the Web site.

• Mail: Christopher Kirkpatrick, Secretary of the Commission, Commodity Futures Trading Commission, Three Lafayette Centre, 1155 21st Street NW., Washington, DC 20581.

• Hand Delivery/Courier: Same as Mail, above.

• Federal eRulemaking Portal: http://www.regulations.gov/. Follow the instructions for submitting comments through the Portal.

Please submit your comments using only one method. All comments must be submitted in English, or if not, accompanied by an English translation. Comments will be posted as received to http://www.cftc.gov. You should submit only information that you wish to make available publicly. If you wish the CFTC to consider information that you believe is exempt from disclosure under the Freedom of Information Act, a petition for confidential treatment of the exempt information may be submitted according to the procedures established in § 145.9 of the CFTC's regulations.¹

¹ 17 CFR 145.9.

The CFTC reserves the right, but shall have no obligation, to review, pre-screen, filter, redact, refuse or remove any or all of your submission from http://www.cftc.gov that it may deem to be inappropriate for publication, such as obscene language. All submissions that have been redacted or removed that contain comments on the merits of the Information Collection Request will be retained in the public comment file and will be considered as required under applicable law, and may be accessible under the Freedom of Information Act.

FOR FURTHER INFORMATION CONTACT: Thomas Guerin, Division of Market Oversight, Commodity Futures Trading Commission, 1155 21st Street NW., Washington, DC 20581; (202) 734-4194, email: tguerin@cftc.gov, and refer to OMB Control No. 3038-0061.

SUPPLEMENTARY INFORMATION: Under the PRA, Federal agencies must obtain approval from the Office of Management and Budget (“OMB”) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information before submitting the collection to OMB for approval. To comply with this requirement, the CFTC is publishing notice of the proposed collection of information listed below.

Title: Regulation 16.02 Daily Trade and Supporting Data Reports (OMB Control No. 3038-0061). This is a request for extension of a currently approved information collection.

Abstract: The collection of information is needed to ensure that the CFTC has access to transaction-level trade data and related order information for each transaction executed on a Reporting Market. The Commission analyzes the daily trade and supporting data reports that are submitted pursuant to 17 CFR 16.02 to conduct financial, market and trade practice surveillance. The Commission uses the collection of information to discharge its regulatory responsibilities, including the responsibilities to prevent market manipulations and commodity price distortions and ensure the financial integrity of its jurisdictional markets.

With respect to the collection of information, the CFTC invites comments on:

• Whether the proposed collection of information is necessary for the proper performance of the functions of the CFTC, including whether the information will have a practical use;

• The accuracy of the CFTC's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

Burden Statement: CFTC Regulation 16.02 results in information collection requirements within the meaning of the PRA. This regulation previously required Reporting Markets to incur one-time costs to establish systems and processes associated with providing the required reports to the CFTC on a daily basis. With respect to the ongoing reporting burden associated with submitting the required 16.02 reports, the CFTC believes that Reporting Markets incur an average burden of two hours to compile and submit each report made pursuant to 16.02. Reporting Markets submit an average of 250 reports annually. The estimated total annual time-burden for all Reporting Markets is 15,000 hours.

Respondents/Affected Entities: Reporting Markets.

Estimated number of respondents: 30.

Estimated total annual burden on respondents: 15,000 hours.

Frequency of collection: Ongoing.

There are no capital costs or operating and maintenance costs associated with this collection.

Authority: 44 U.S.C. 3501 et seq.

Dated: November 27, 2015.
Christopher J. Kirkpatrick,
Secretary of the Commission.

[FR Doc. 2015-30561 Filed 12-2-15; 8:45 am]

BILLING CODE 6351-01-P